DEPARTMENT OF HEALTH AND HUMAN SERVICES

Office of Refugee Resettlement

[CFDA Number 93.676]

Announcing the Award of 24 Single-Source Program Expansion Supplement Grants Under the Unaccompanied Alien Children's Shelter Care Program

AGENCY: Office of Refugee Resettlement, ACF, HHS.

ACTION: The Office of Refugee Resettlement (ORR) announces the award of 24 single-source program expansion supplement grants under its Unaccompanied Alien Children's (UAC) Program where grantees provide a range of custodial/residential shelter care and services for recently arrived unaccompanied alien children.

SUMMARY: The Administration for Children and Families (ACF), Office of Refugee Resettlement (ORR) announces the award of 24 single-source program expansion supplement grants for a total of $60,835,955. The additional funding provided to current grantees under ORR's UAC program will support services to unaccompanied alien children through September 30, 2012.

The ORR UAC grantees that have received single-source program expansion supplements are:

Grantee organization | Location | Award amount
BCFS Health and Human Services | San Antonio, TX | $24,765,693
BCFS Health and Human Services | San Antonio, TX | 272,645
A New Leaf | Mesa, AZ | 180,000
Bokenkamp | Corpus Christi, TX | 547,826
Catholic Charities Miami (Boystown) | Miami, FL | 752,203
Catholic Charities Galveston/Houston | Houston, TX | 213,733
Children's Village | Dobbs Ferry, NY | 1,712,029
Children's Village | Dobbs Ferry, NY | 152,000
David and Margaret | LaVerne, CA | 402,000
Florence Crittenton | Fullerton, CA | 348,817
His House | Miami, FL | 423,535
International Education Services | Los Fresnos, TX | 2,260,821
International Education Services | Los Fresnos, TX | 638,042
International Education Services | Los Fresnos, TX | 192,577
Lutheran Immigration and Refugee Services (LIRS) | Baltimore, MD | 1,836,754
Lutheran Immigration and Refugee Services (LIRS) | Baltimore, MD | 268,612
Shenandoah Valley Children's Center | Staunton, VA | 135,000
Morrison Child and Family Services | Portland, OR | 228,684
Pioneer Human Services | Tacoma, WA | 135,257
YouthCare | Seattle, WA | 322,080
Heartland Alliance | Chicago, IL | 6,121,454
Southwest Key Inc. | Austin, TX | 18,615,410
US Conference of Catholic Bishops (USCCB) | Washington, DC | 182,855
US Committee on Refugees and Immigrants (USCRI) | Washington, DC | 127,928

DATES: October 1, 2011 through September 30, 2012.

FOR FURTHER INFORMATION CONTACT: Kenneth Tota, Deputy Director, Office of Refugee Resettlement, Administration for Children and Families, 370 L'Enfant Promenade SW., Washington, DC 20447, Telephone (202) 401-4858.

SUPPLEMENTARY INFORMATION: The expansion supplement grants will support the expansion of bed capacity to meet the number of unaccompanied alien children referrals from the Department of Homeland Security (DHS). The funding program is mandated by Section 462 of the Homeland Security Act to ensure appropriate placement of all referrals from the DHS. The program is tied to DHS apprehension strategies and a sporadic number of border crossers.

Statutory Authority: Section 462 of the Homeland Security Act of 2002, Pub. L. 6 U.S.C. 279(b) (A)-(J) and Section 235 (a)(5)(C) of the William Wilberforce Trafficking Victims Protection Reauthorization Act of 2008, Pub. L. 110-457, (8 U.S.C. 1232), gives the ORR statutory authority to ensure the appropriate placement of all DHS UAC referrals within specified timeframes and provides a range of custodial/residential shelter care and services.

Eskinder Negash,
Director, Office of Refugee Resettlement.

[FR Doc. 2012-23245 Filed 9-19-12; 8:45 am]

BILLING CODE 4120-27-P